DEPARTMENT OF DEFENSE

Office of the Secretary

President's Information Technology Advisory Committee (PITAC)

AGENCY: Department of Defense.

ACTION: Cancellation notice.

SUMMARY: On October 4, 2004 (69 FR 59214), the Department of Defense published a notice of meeting on subject area. This notice is to inform all persons that the meeting has been canceled.

Dated: October 4, 2004.
L.M. Bynum,
Alternate OSD Federal Register Liaison Officer, Department of Defense.

[FR Doc. 04-22688 Filed 10-7-04; 8:45 am]

BILLING CODE 5001-04-M